DEPARTMENT OF ENERGY

Federal Energy Regulatory Commission

Combined Notice of Filings #1

Take notice that the Commission received the following electric rate filings:

Docket Numbers: ER14-153-004; ER14-154-004; ER10-3143-016; ER10-2742-007.

Applicants: Gibson City Energy Center, LLC, Grand Tower Energy Center, LLC, Lakeswind Power Partners, LLC, Sabine Cogen, LP, Tilton Energy LLC.

Description: Amendment to June 26, 2015 Triennial Market-Based Rate Update Filing for the Central Region of the Rockland Sellers.

Filed Date: 2/17/16.

Accession Number: 20160217-5219.

Comments Due: 5 p.m. ET 3/9/16.

Docket Numbers: ER16-938-001.

Applicants: Arizona Public Service Company.

Description: Tariff Amendment: Energy Imbalance Market OATT Revisions to be effective 5/1/2016.

Filed Date: 2/17/16.

Accession Number: 20160217-5195.

Comments Due: 5 p.m. ET 3/9/16.

Docket Numbers: ER16-954-001.

Applicants: ISO New England Inc.

Description: Tariff Amendment: Errata to DARD Pump Parameter Changes to be effective 3/31/2017.

Filed Date: 2/18/16.

Accession Number: 20160218-5043.

Comments Due: 5 p.m. ET 3/10/16.

Docket Numbers: ER16-959-000.

Applicants: New York Independent System Operator, Inc.

Description: Compliance filing: NYISO HTP UDR compliance EL12-98 to be effective 12/31/9998.

Filed Date: 2/17/16.

Accession Number: 20160217-5197.

Comments Due: 5 p.m. ET 3/9/16.

Docket Numbers: ER16-960-000.

Applicants: Big Sandy Peaker Plant, LLC.

Description: Compliance filing: Compliance Filing, Informational Filing, Reactive Tariff Record Doc No ER04-1103 to be effective 2/17/2016.

Filed Date: 2/17/16.

Accession Number: 20160217-5201.

Comments Due: 5 p.m. ET 3/9/16.

Docket Numbers: ER16-961-000.

Applicants: Wolf Hills Energy, LLC.

Description: Compliance filing: Compliance Filing, Informational Filing, Reactive Tariff Record Doc No ER04-1102 to be effective 2/17/2016.

Filed Date: 2/17/16.

Accession Number: 20160217-5202.

Comments Due: 5 p.m. ET 3/9/16.

Docket Numbers: ER16-962-000.

Applicants: RE Astoria 2 LLC.

Description: Section 205(d) Rate Filing: Certificate of Concurrence for LGIA Co-Tenancy Agreement to be effective 3/27/2016.

Filed Date: 2/18/16.

Accession Number: 20160218-5046.

Comments Due: 5 p.m. ET 3/10/16.

Docket Numbers: ER16-963-000.

Applicants: RE Astoria 2 LLC.

Description: Section 205(d) Rate Filing: Certificate of Concurrence for Shared Facilities Agreement to be effective 3/27/2016.

Filed Date: 2/18/16.

Accession Number: 20160218-5047.

Comments Due: 5 p.m. ET 3/10/16.

Docket Numbers: ER16-964-000.

Applicants: PJM Interconnection, L.L.C.

Description: Section 205(d) Rate Filing: Original ISA No. 4401, Queue No. AA1-095 to be effective 1/25/2016.

Filed Date: 2/18/16.

Accession Number: 20160218-5054.

Comments Due: 5 p.m. ET 3/10/16.

Docket Numbers: ER16-965-000.

Applicants: Alabama Power Company.

Description: Section 205(d) Rate Filing: Southern Power (Taylor County Solar Facility II-100MW) LGIA Filing to be effective 2/4/2016.

Filed Date: 2/18/16.

Accession Number: 20160218-5093.

Comments Due: 5 p.m. ET 3/10/16.

Docket Numbers: ER16-966-000.

Applicants: New York Independent System Operator, Inc.

Description: Section 205(d) Rate Filing: Tariff revisions public policy transmission planning process to be effective 2/19/2016.

Filed Date: 2/18/16.

Accession Number: 20160218-5113.

Comments Due: 5 p.m. ET 3/10/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 18, 2016.
Nathaniel J. Davis, Sr.,
Deputy Secretary.

[FR Doc. 2016-03831 Filed 2-23-16; 8:45 am]

BILLING CODE 6717-01-P